DEPARTMENT OF HEALTH AND HUMAN SERVICES

Centers for Disease Control and Prevention

[CDC-2014-0005, Docket Number NIOSH-272]

Respiratory Protective Devices Used in Healthcare

Agency: National Institute for Occupational Safety and Health (NIOSH) of the Centers for Disease Control and Prevention (CDC), Department of Health and Human Services (HHS).

ACTION: Notice and extension of comment period.

SUMMARY: On March 14, 2014, the Director of the National Institute for Occupational Safety and Health (NIOSH) of the Centers for Disease Control and Prevention (CDC) published a notice in the Federal Register [79 FR 14515] announcing a request for information and comment. In response to requests from interested parties, NIOSH has extended the comment period until April 30, 2014. This extension allows interested parties additional time to submit comments. Additional information can be found in NIOSH Docket 272 or Federal Register 79 FR 14515.

FOR FURTHER INFORMATION CONTACT: Roland Berry Ann, NIOSH NPPTL, P.O. Box 18070, Pittsburgh, PA 15236; (412) 386-6111 (this is not a toll-free number).

ADDRESSES: You may submit comments identified by CDC-2014-0005 and Docket Number NIOSH-272 by either of the two following methods:

• Federal eRulemaking Portal: http://www.regulations.gov. Follow the instructions for submitting comments.

• Mail: NIOSH Docket Office, Robert. Taft Laboratories, MS-C34, 4676 Columbia Parkway, Cincinnati, OH 45226.

Dated: April 18, 2014.
John Howard,
Director, National Institute for Occupational Safety and Health, Centers for Disease Control and Prevention.

[FR Doc. 2014-09346 Filed 4-23-14; 8:45 am]

BILLING CODE 4163-19-P